DEPARTMENT OF LABOR

Employment and Training Administration

[NAFTA-04723]

Taylor Lumber and Treating, Sheridan, OR; Dismissal of Application for Reconsideration

Pursuant to 29 CFR 90.18(C) an application for administrative reconsideration was filed with the Director of the Division of Trade Adjustment Assistance for workers at Taylor Lumber and Treating, Sheridan, Oregon. The application contained no new substantial information which would bear importantly on the Department's determination. Therefore, dismissal of the application was issued.

NAFTA-04723; Taylor Lumber and Treating Sheridan, Oregon (November 13, 2001)

Signed at Washington, DC this 19th day of November, 2001.
Edward A. Tomchick,
Director, Division of Trade Adjustment Assistance.

[FR Doc. 01-29750 Filed 11-29-01; 8:45 am]

BILLING CODE 4510-30-M